DEPARTMENT OF DEFENSE

Office of the Secretary

[Docket ID: DoD-2025-HA-0218]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: TRICARE Prime Enrollment, Disenrollment, and Change of Primary Care Manager (PCM); DD 2876; OMB Control Number 0720-0008.

Type of Request: Renewal.

Number of Respondents: 953,841.

Responses per Respondent: 2.

Annual Responses: 1,907,682.

Average Burden per Response: 15 minutes.

Annual Burden Hours: 476,920.5.

Needs and Uses: The information collection is necessary to obtain non-active-duty TRICARE beneficiary's personal information, which is needed to (1) Complete enrollment into TRICARE Prime health plan, (2) change the beneficiary's enrollment (new Primary Care Manager, enrolled region, add/drop a dependent, etc.), or (3) disenroll the beneficiary. This information is required to ensure the beneficiary's benefits and claims are administered based on their plan of choice. Without this information, each non-active-duty TRICARE beneficiary is automatically defaulted into direct care only, limiting their health care options to military hospitals and clinics. These beneficiaries would have no TRICARE coverage when using the TRICARE network of providers for services not available at their local military hospital or clinic.

Affected Public: Individuals or households.

Frequency: As required.

Respondent's Obligation: Voluntary.

DOD Clearance Officer: Mr. Reginald Lucas.

Dated: September 19, 2025.
Stephanie J. Bost,
Alternate OSD Federal Register Liaison Officer, Department of Defense.

[FR Doc. 2025-18419 Filed 9-22-25; 8:45 am]

BILLING CODE 6001-FR-P